DEPARTMENT OF HEALTH AND HUMAN SERVICES

National Institutes of Health

Prospective Grant of a Start-up Exclusive Option License: Therapeutic Uses for Cardio-Metabolic Indications, Including Hypertriglyceridemia, Hypercholesterolemia and Diabetes

AGENCY: National Institutes of Health, HHS.

ACTION: Notice.

SUMMARY: This is notice, in accordance with 35 U.S.C. 209 and 37 CFR part 404, that the National Institutes of Health (NIH), Department of Health and Human Services, is contemplating the grant of a Start-Up Exclusive Option License to practice the invention embodied in Patent Applications USSN 61/045,213, filed April 15, 2008; PCT/US2009/040560, filed April 14, 2009; and US 12/937,974, filed October 14, 2010, issued as 8,936,787 on January 20, 2015; titled “Peptides Promoting Lipid Efflux” (NIH Ref. E-138-2008/0) to Corvidia Corporation, having a place of business in Boston, MA. The patent rights in this invention have been assigned to the United States of America.

DATES: Only written comments and/or application for a license that are received by the NIH Office of Technology Transfer on or before September 25, 2015 will be considered.

ADDRESSES: Requests for a copy of the patent application, inquiries, comments and other materials relating to the contemplated license should be directed to: Cristina Thalhammer-Reyero, Ph.D., M.B.A., Office of Technology Transfer, National Institutes of Health, 6011 Executive Boulevard, Suite 325, Rockville, MD 20852-3804; Email: ThalhamC@mail.nih.gov; Telephone: 301-435-4507; Facsimile: 301-402-0220.

SUPPLEMENTARY INFORMATION: The invention relates to compositions and methods for using multi-domain amphipathic α-helical peptides or peptide analogs to treat or inhibit dyslipidemic disorders. More specifically, the peptides and peptide analogs with multiple amphipathic α-helical domains: (a) Promote lipid efflux from cells via an ABCAl-dependent pathway; and (b) activate lipoprotein lipase.

The prospective exclusive license will be royalty bearing and will comply with the terms and conditions of 35 U.S.C. 209 and 37 CFR part 404. The prospective exclusive option license may be granted unless, within 15 days from the date of this published Notice, NIH receives written evidence and argument that establishes that the grant of the license would not be consistent with the requirements of 35 U.S.C. 209 and 37 CFR part 404.

The field of use may be limited to “Therapeutic uses for cardio-metabolic indications, including hypertriglyceridemia, hypercholesterolemia and diabetes”.

Properly filed competing applications for a license filed in response to this notice will be treated as objections to the contemplated license. Comments and objections submitted in response to this notice will not be made available for public inspection, and, to the extent permitted by law, will not be released under the Freedom of Information Act, 5 U.S.C. 552.

Dated: September 3, 2015.
Richard U. Rodriguez,
Acting Director, Office of Technology Transfer, National Institutes of Health.

[FR Doc. 2015-22771 Filed 9-9-15; 8:45 am]

BILLING CODE 4140-01-P